DEPARTMENT OF TRANSPORTATION

Federal Aviation Administration

14 CFR Part 39

[Docket No. FAA-2022-1253; Project Identifier MCAI-2022-00698-T; Amendment 39-22349; AD 2023-04-02]

RIN 2120-AA64

Airworthiness Directives; Gulfstream Aerospace LP Airplanes

AGENCY: Federal Aviation Administration (FAA), DOT.

ACTION: Final rule.

SUMMARY: The FAA is adopting a new airworthiness directive (AD) for all Gulfstream Aerospace LP Model Gulfstream G280 airplanes. This AD was prompted by a determination that the existing wet runway performance tables in the airplane flight manual (AFM) may not provide an acceptable level of safety. This AD requires revising the existing AFM to incorporate new wet runway performance tables, as specified in a Civil Aviation Authority of Israel (CAAI) AD, which is incorporated by reference. The FAA is issuing this AD to address the unsafe condition on these products.

DATES: This AD is effective April 7, 2023.

The Director of the Federal Register approved the incorporation by reference of a certain publication listed in this AD as of April 7, 2023.

ADDRESSES:

AD Docket: You may examine the AD docket at regulations.gov under Docket No. FAA-2022-1253; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact CAAI, P.O. Box 1101, Golan Street, Airport City, 70100, Israel; telephone 972-3-9774665; fax 972-3-9774592; email aip@mot.gov.il. You may find this material on the CAAI website at caa.gov.il.

• You may view this material at the FAA, Airworthiness Products Section, Operational Safety Branch, 2200 South 216th St., Des Moines, WA. For information on the availability of this material at the FAA, call 206-231-3195. It is also available in the AD docket at regulations.gov under Docket No. FAA-2022-1253.

FOR FURTHER INFORMATION CONTACT: Dan Rodina, Aerospace Engineer, Large Aircraft Section, FAA, International Validation Branch, 2200 South 216th St., Des Moines, WA 98198; telephone 206-231-3225; email dan.rodina@faa.gov.

SUPPLEMENTARY INFORMATION:

Background

The FAA issued a notice of proposed rulemaking (NPRM) to amend 14 CFR part 39 by adding an AD that would apply to all Gulfstream Aerospace LP Model Gulfstream G280 airplanes. The NPRM published in the Federal Register on October 5, 2022 (87 FR 60344). The NPRM was prompted by AD ISR-I-97-2022-04-9, dated May 1, 2022, issued by the Civil Aviation Authority of Israel (CAAI), which is the aviation authority for Israel (CAAI AD ISR-I-97-2022-04-9) (also referred to as the MCAI). The MCAI states that the existing wet runway performance tables in the AFM may not provide an acceptable level of safety, and that the wet runway performance tables have been updated in the Performance section of the G280 AFM, Revision 10.

In the NPRM, the FAA proposed to require revising the existing AFM to incorporate new wet runway performance tables, as specified in CAAI AD ISR-I-97-2022-04-9. The FAA is issuing this AD to address the existing AFM wet runway performance tables that could allow the airplane to experience runway excursions or overruns during takeoff.

You may examine the MCAI in the AD docket at regulations.gov under Docket No. FAA-2022-1253.

Discussion of Final Airworthiness Directive

Comments

The FAA received comments from one individual. The following presents the comments received on the NPRM and the FAA's response to each comment.

Request To Produce Digital Version of AFM

The commenter noted that the FAA should change AFMs to a digital format so they can be updated as new ADs are created.

The FAA issues ADs to address unsafe conditions, including those involving the AFM. The question of whether AFMs should be produced in another format is beyond the scope of this AD.

Request for Clarification on Adequacy of Performance Tables

The commenter also remarked that an effort should be made to understand why wet runway performance tables do not have an acceptable level of safety. The commenter argued that a deficiency such as this should have been caught during the aircraft certification process.

Airplane certification and validation activities provide a baseline for safety. However, it is not possible to anticipate all potential unsafe conditions on an airplane during the certification process. Once the airplane is in service, the FAA issues ADs in accordance with 14 CFR 39.5 when the agency subsequently finds that an unsafe condition exists in the airplane and the condition is likely to exist or develop in other airplanes of the same type design. The FAA has not changed this AD as a result of this comment.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Related Service Information Under 1 CFR Part 51

CAAI AD ISR-I-97-2022-04-9 specifies procedures for updating the Performance section of the G280 AFM to incorporate new wet runway tables. This material is reasonably available because the interested parties have access to it through their normal course of business or by the means identified in the ADDRESSES section.

Costs of Compliance

The FAA estimates that this AD would affect 195 airplanes of U.S. registry. The FAA estimates the following costs to comply with this AD:

Estimated Costs for Required Actions
Labor cost | Parts cost | Cost per product | Cost on U.S. operators
1 work-hour × $85 per hour = $85 | $0 | $85 | $16,575

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-04-02 Gulfstream Aerospace LP: Amendment 39-22349; Docket No. FAA-2022-1253; Project Identifier MCAI-2022-00698-T.

(a) Effective Date

This airworthiness directive (AD) is effective April 7, 2023.

(b) Affected ADs

None.

(c) Applicability

This AD applies to all Gulfstream Aerospace LP Model Gulfstream G280 airplanes, certificated in any category.

(d) Subject

Air Transport Association (ATA) of America Code 34, Navigation.

(e) Unsafe Condition

This AD was prompted by a determination that the existing wet runway performance tables in the airplane flight manual (AFM) may not provide an acceptable level of safety. The FAA is issuing this AD to address the existing AFM wet runway performance tables that could allow the airplane to experience runway excursions or overruns during takeoff.

(f) Compliance

Comply with this AD within the compliance times specified, unless already done.

(g) Requirements

Except as specified in paragraph (h) of this AD: Comply with all required actions and compliance times specified in, and in accordance with, Civil Aviation Authority of Israel (CAAI) AD ISR-I-97-2022-04-9, dated May 1, 2022 (CAAI AD ISR-I-97-2022-04-9).

(h) Exception to CAAI AD ISR-I-97-2022-04-9

Where CAAI AD ISR-I-97-2022-04-9 refers to its effective date, this AD requires using the effective date of this AD.

(i) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or CAAI; or CAAI's authorized Designee. If approved by the CAAI Designee, the approval must include the Designee's authorized signature.

(j) Additional Information

For more information about this AD, contact Dan Rodina, Aerospace Engineer, Large Aircraft Section, FAA, International Validation Branch, 2200 South 216th St., Des Moines, WA 98198; telephone 206-231-3225; email dan.rodina@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) Civil Aviation Authority of Israel (CAAI) AD ISR-I-97-2022-04-9, dated May 1, 2022.

(ii) [Reserved]

(3) For CAAI AD ISR-I-97-2022-04-9, contact Civil Aviation Authority of Israel (CAAI), P.O. Box 1101, Golan Street, Airport City, 70100, Israel; telephone 972-3-9774665; fax 972-3-9774592; email aip@mot.gov.il. You may find this CAAI AD on the CAAI website at caa.gov.il.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on February 14, 2023.
Christina Underwood,
Acting Director, Compliance & Airworthiness Division, Aircraft Certification Service.

[FR Doc. 2023-04255 Filed 3-2-23; 8:45 am]

BILLING CODE 4910-13-P